DEPARTMENT OF AGRICULTURE

Animal and Plant Health Inspection Service

[Docket No. APHIS-2007-0128]

Notice of Decision to Issue Permits for the Importation of Sweet Cherries From Australia Into the Continental United States and Hawaii

AGENCY: Animal and Plant Health Inspection Service, USDA.

ACTION: Notice.

SUMMARY: We are advising the public of our decision to begin issuing permits for the importation into the continental United States and Hawaii of sweet cherries from Australia. Based on the findings of a pest risk analysis, which we made available to the public for review and comment through a previous notice, we believe that the application of one or more designated phytosanitary measures will be sufficient to mitigate the risks of introducing or disseminating plant pests or noxious weeds via the importation of sweet cherries from Australia.

EFFECTIVE DATE: January 30, 2008.

FOR FURTHER INFORMATION CONTACT: Ms. Donna L. West, Senior Import Specialist, Commodity Import Analysis and Operations, Plant Health Programs, PPQ, APHIS, 4700 River Road Unit 133, Riverdale, MD 20737-1231; (301) 734-8758.

SUPPLEMENTARY INFORMATION: Under the regulations in “Subpart—Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on October 12, 2007 (72 FR 58047-58048, Docket No. APHIS-2007-0128), in which we announced the availability, for review and comment, of a pest risk analysis that evaluates the risks associated with the importation into the continental United States and Hawaii of sweet cherries from Australia. We solicited comments on the notice for 60 days ending on December 11, 2007. We received one comment by that date, from a representative of Australia's Department of Agriculture, Fisheries and Forestry.

¹ To view the notice, the pest risk analysis, and the comment we received, go to http://www.regulations.gov/fdmspublic/component/main?main=DocketDetail&d=APHIS-2007-0128.

The commenter supported the findings of the pest risk analysis, but noted that her agency has concerns regarding the commercial viability of one of the treatment options we spelled out for Australian cherries. The commenter stated that the methyl bromide fumigation followed by cold treatment is considered by the Australian industry to damage the fruit and could thus reduce its commercial appeal. Based on those concerns, the commenter urged APHIS to complete its review of the data supporting a cold treatment-only option for treating cherries. The commenter did not, however, question the efficacy of the combination treatment or otherwise suggest that the overall conclusions of the analysis and the Administrator's determination of risk should be changed.

Therefore, in accordance with the regulations in § 319.56-4(c)(2)(ii), we are announcing our decision to begin issuing permits for the importation into the continental United States and Hawaii of sweet cherries from Australia subject to the following conditions:

• The fruit must be part of a commercial consignment as defined in 7 CFR 319.56-2.

• The fruit must either originate from an APHIS-approved fruit fly free area or be treated in accordance with the phytosanitary treatments regulations in 7 CFR part 305. This may entail treatment with T108-a-1/2/3 [fumigation with methyl bromide followed by cold treatment as provided in 7 CFR 305.10(a)] or irradiation using 150 Gy as the minimum absorbed dose and meeting all other relevant requirements in 7 CFR 305.31.

• Each consignment must be accompanied by a phytosanitary certificate issued by the Australian National Plant Protection Organization (NPPO) certifying that the fruit either received the required treatment or originated from a fruit fly free area. The NPPO must also include an additional declaration in the phytosanitary certificate that states: “The fruit in this shipment was inspected and found free of Epiphyas postvittana.”

• The fruit will also be subject to inspection at the port of entry should inspectors determine that such inspection is necessary.

These conditions will be listed in the fruits and vegetables manual (available at http://www.aphis.usda.gov/import_export/plants/manuals/ports/downloads/fv.pdf). In addition to these specific measures, the sweet cherries will be subject to the general requirements listed in § 319.56-3 that are applicable to the importation of all fruits and vegetables.

Done in Washington, DC, this 25th day of January 2008.
Kevin Shea,
Acting Administrator, Animal and Plant Health Inspection Service.

[FR Doc. E8-1682 Filed 1-29-08; 8:45 am]

BILLING CODE 3410-34-P